ENVIRONMENTAL PROTECTION AGENCY

40 CFR Part 52

[Docket No., EPA-R02-OAR-2016-0766; FRL-9961-21-Region 2]

Approval and Promulgation of Implementation Plans; Reasonably Available Control Technology for Oxides of Nitrogen for Specific Sources in the State of New Jersey

AGENCY: Environmental Protection Agency (EPA).

ACTION: Proposed rule.

SUMMARY: The Environmental Protection Agency (EPA) is proposing to approve two revisions to the State Implementation Plan (SIP) for ozone submitted by the State of New Jersey. This SIP revision consists of two source-specific reasonably available control technology (RACT) determinations for controlling oxides of nitrogen. One is for the Transcontinental Gas Pipeline Corp., LNG Station 240 located in Carlstadt, New Jersey and the other is for Joint Base McGuire-Dix-Lakehurst in Lakehurst, New Jersey. This action proposes to approve the source-specific RACT determinations that were made by New Jersey in accordance with the provisions of its regulation to help meet the national ambient air quality standard for ozone. The intended effect of this proposed rule is to approve source-specific emissions limitations required by the Clean Air Act.

DATES: Comments must be received on or before June 7, 2017.

ADDRESSES: Submit your comments, identified by Docket ID Number EPA-R02-OAR-2016-0766, at http://www.regulations.gov. Follow the on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Anthony (Ted) Gardella gardella.anthony@epa.gov at the U.S. Environmental Protection Agency, Air Programs Branch, 290 Broadway, 25th Floor, New York, NY 10007-1866, telephone number (212) 637-4249, fax number (212) 637-3901.

SUPPLEMENTARY INFORMATION:

Table of Contents

I. The EPA's Proposed Action

A. What action is the EPA proposing today?

B. Why is the EPA proposing this action?

C. What are the Clean Air Act requirements for NOX RACT?

D. What is the EPA's evaluation of New Jersey's SIP Revision?

II. New Jersey's SIP Revision

A. What are New Jersey's NOX RACT requirements?

B. What are New Jersey's facility specific NOX RACT requirements?

C. When was New Jersey's RACT determination proposed and adopted?

D. When was New Jersey's proposed SIP revision submitted to the EPA?

III. Conclusion

IV. Statutory and Executive Order Reviews

I. The EPA's Proposed Action

A. What action is the EPA proposing today?

The EPA is proposing to approve two source-specific State Implementation Plan (SIP) revisions for ozone submitted by the State of New Jersey. These SIP revisions relate to New Jersey's oxides of nitrogen (NOX) reasonably available control technology (RACT) determinations for the Transcontinental Gas Pipeline Corp., LNG Station 240 (Transco-240) located in Carlstadt, New Jersey, Bergen County and for Joint Base McGuire-Dix-Lakehurst (JB-MDL) located in Lakehurst, New Jersey, Ocean County. These SIP revisions were submitted to the EPA for approval on July 1, 2014 and July 25, 2016 respectively. The determinations are for the four natural gas-fired water bath heaters at the Transco-240 facility and the two natural gas-fired boilers (Nos 2 and 3) at the JB-MDL facility.

B. Why is the EPA proposing this action?

The EPA is proposing this action to:

• Give the public the opportunity to submit comments on the EPA's proposed action, as discussed in the DATES and ADDRESSES sections.

• Fulfill New Jersey's and the EPA's requirements under the Clean Air Act (Act).

• Make New Jersey's RACT determination federally-enforceable.

C. What are the Clean Air Act requirements for NOX RACT?

The Act requires certain states to develop RACT regulations for stationary sources of NOX and to provide for the implementation of the required measures as soon as practicable. For detailed information on the requirements of the Act for NOX RACT and for the EPA's technical evaluation of New Jersey's SIP revision, see the Technical Support Document (TSD), prepared in support of this proposed action. A copy of the TSD is available in the Docket for this action, and by contacting the individual in the For Further Information Section.

D. What is the EPA's evaluation of New Jersey's SIP revision?

The EPA has determined that New Jersey's proposed SIP revisions for the NOX RACT determinations for Transco-240 and JB-MDL are consistent with New Jersey's NOX RACT regulation and the EPA's guidance. The EPA's basis for evaluating New Jersey's proposed SIP revisions is whether they meet the SIP requirements described in section 110 of the Act. The EPA has determined that New Jersey's proposed SIP revisions will not interfere with any applicable requirement concerning attainment and reasonable further progress, or any other applicable requirement of the Act.

The EPA has determined that the NOX emission limits identified in New Jersey's Conditions of Approval document and alternative emission limit compliance plan represent RACT for Transco-240 and JB-MDL respectively. The conditions contained in these documents currently specify emissions limits, work practice standards, testing, monitoring, and recordkeeping/reporting requirements. These conditions are consistent with the NOX RACT requirements specified in Subchapter 19 of Chapter 27, Title 7 of the New Jersey Administrative Code and conform to the EPA's NOX RACT guidance. More specifically, the EPA proposes to approve the current Conditions of Approval document for Transco-240 which includes the following:

1. The emission rate of NOX from each water bath heater, while firing natural gas, shall not exceed 0.10 pounds per million British thermal units (lb/MMBTU);

2. The total emission rate of NOX from all four water bath heaters, while combusting natural gas shall not exceed 6.7 tons per year;

3. Transco-240 shall operate the four natural gas-fired water bath heaters for a combined total of 1600 hours per year or less;

4. Transco-240 shall not operate the four water bath heaters during the ozone season; and

5. The flue gas recirculation (FGR) system shall operate at all times the heater is operating.

For JB-MDL, the EPA proposes to approve the alternative emission limit compliance plan which includes the following:

1. An alternative NOX Emission Limit (AEL) of 0.1 lb/MMBTU for boiler #2 and boiler #3 pursuant to N.J.A.C.7:27-19.13; and

2. Decrease in natural gas use from 181.43 to 108.6 million cubic feet (MMft³) per year for boiler #2 and from 113.04 to 57 MMft³ per year for boiler #3.

In addition, the documents for both facilities specify the NOX emissions limits, combustion process adjustments mentioned above, emission testing, monitoring, recordkeeping and reporting requirements, which States and sources will need to provide for through the Title V permitting process.

II. New Jersey's SIP Revision

A. What are New Jersey's NOX RACT requirements?

New Jersey's NOX RACT requirements are contained in Subchapter 19 entitled “Control And Prohibition of Air Pollution From Oxides of Nitrogen”, of Chapter 27, Title 7 of the New Jersey Administrative Code. New Jersey has made numerous revisions to Subchapter 19 since the original SIP submission. The current SIP approved version of Subchapter 19 was approved by the EPA on August 3, 2010 (75 FR 45483). New Jersey RACT requirements specify the emission rate of NOX from each water bath or boiler, while firing natural gas, shall not exceed 0.10 lb/MMBTU. The maximum allowable emission limit becomes effective on the effective date of EPA's approval, as published in the Federal Register, of New Jersey's SIP revision for the AEL. Until EPA's approval becomes effective, the maximum allowable emission rate for each water bath heater or boiler is 0.05 lb/MMBTU, as required by Subchapter 19.

B. What are New Jersey's facility-specific NOX RACT requirements?

Section 19.13 of New Jersey's regulation establishes a procedure for a case-by-case determination of what represents RACT for a major NOX facility, item of equipment, or source operation. This procedure applies to facilities considered major for NOX, which are in one of the following two situations: (1) If the NOX facility contains any source operation or item of equipment of a category not listed in section 19.2(b) or (c) which has the potential to emit more than 10 tons of NOX per year, or (2) if the owner or operator of a source operation or item of equipment of a category listed in section 19.2(b) or (c) seeks approval of an alternative maximum allowable emission rate. This proposal applies to both facilities for the second situation listed above.

New Jersey's procedure requires either submission of a NOX control plan, if specific emission limitations do not apply to the specific source, or submission of a request for an alternative maximum allowable emission rate if specific emission limitations do apply to the specific source. In either case, the owners/operators must include a technical and economic feasibility analysis of the possible alternative control measures. Also, in either case, Subchapter 19 requires that New Jersey establish emission limits which rely on a RACT determination specific to the facility. The resulting NOX control plan or alternative maximum allowable emission rate must be submitted to the EPA for approval as a SIP revision.

C. When was New Jersey's RACT determination proposed and adopted?

New Jersey's RACT determination for Transco-240 was proposed on March 26, 2014, with the public comment period ending April 25, 2014. New Jersey approved the RACT determination on June 12, 2014. New Jersey's RACT determination for JB-MDL was proposed on June 8, 2016, with the public comment period ending July 8, 2016. New Jersey approved the RACT determination on August 26, 2016. New Jersey did not receive any comments during either of the two comment periods.

D. When was New Jersey's SIP revision submitted to the EPA?

New Jersey's SIP revision for Transco-240 was submitted to the EPA on July 1, 2014 and New Jersey's SIP revision for JB-MDL was submitted on July 25, 2016. By operation of law the submittals were deemed administratively and technically complete six months from the submittal dates.

III. Conclusion

The EPA is proposing to approve the New Jersey SIP revisions for alternative RACT emission limit determinations for the following two sources: (1) The four water bath heaters for the Transcontinental Gas Pipeline Corp., LNG Station 240 which includes source-specific NOX emissions limits, combustion process adjustments, emission testing, monitoring, recordkeeping and reporting requirements; and (2) the two boilers (No's 2 and 3) for the Joint Base McGuire-Dix-Lakehurst which includes source-specific NOX emissions limits, combustion process adjustments, emission testing, monitoring, recordkeeping and reporting requirements. The EPA is proposing to approve these revisions since the evaluated alternative control measures at both facilities were determined not to be economically feasible. In addition, the revised RACT requirements will include limits on fuel use and total number of hours of operation at Transcontinental Gas Pipeline Corp., LNG Station 240 and limits on fuel use resulting in a decrease in natural gas use at Joint Base McGuire-Dix-Lakehurst. The EPA will consider all comments submitted prior to any final rulemaking action.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and the EPA notes that it will not impose substantial direct costs on tribal governments or preempt tribal law. Thus, Executive Order 13175 does not apply to this action.

List of Subjects in 40 CFR Part 52

Environmental protection, Air pollution control, Incorporation by reference, Intergovernmental relations, Nitrogen dioxide, Ozone, Reporting and recordkeeping requirements.

Authority: 42 U.S.C. 7401 et seq.

Dated: March 23, 2017.
Catherine R. McCabe,
Acting Regional Administrator, Region 2.

[FR Doc. 2017-09175 Filed 5-5-17; 8:45 am]

BILLING CODE 6560-50-P